GENERAL SERVICES ADMINISTRATION

[Notice-PBS-2017-03; Docket 2017-0002; Sequence 22]

Notice of Intent To Prepare a Supplemental Environmental Impact Statement for the Modernization of the San Luis I Land Port of Entry (LPOE) Modernization

AGENCY: Public Building Service, (PBS), General Services Administration (GSA).

ACTION: Notice of intent; announcement of meeting.

SUMMARY: Pursuant to the requirements of the National Environmental Policy Act of 1969 (NEPA), the Council on Environmental Quality Regulations, and the GSA Public Buildings Service NEPA Desk Guide, GSA is issuing this notice to advise the public that an Environmental Impact Statement (EIS) will be prepared for the San Luis I LPOE. The action to be evaluated by this EIS is the modernization of the existing San Luis I LPOE, located in San Luis, Arizona, to improve its functionality, capacity, and security.

DATES: Meeting Date: A public scoping meeting will be held on Wednesday, November 29, 2017, from 4:00 p.m., Mountain Standard Time (MST), to 6:00 p.m., MST.

ADDRESSES: The public scoping meeting will be held in the City Council Chambers at 1090 E. Union Street, San Luis, AZ, where GSA will meet with governmental and public stakeholders to explain the project, and obtain input on the scoping of the project. The meeting will be an informal open house, where visitors may come, receive information, and provide written comments.

FOR FURTHER INFORMATION CONTACT: Osmahn Kadri, Regional Environmental Quality Advisor/NEPA PM, by phone at 415-522-3617 or via email at osmahn.kadri@gsa.gov. Please also call this number if special assistance is needed to attend and participate in the public scoping meeting.

SUPPLEMENTARY INFORMATION: GSA intends to prepare an EIS to analyze the potential impacts resulting from proposed modifications and design changes to the San Luis I LPOE modernization project. The San Luis I LPOE consists of several facilities that are in need of modernization.

The primary users of the LPOE are officers belonging to Customs and Border Protection and Immigrations and Customs Enforcement, as well as the general public seeking to enter or exit the country. The LPOE needs modernization due to unacceptable building conditions and increasing traffic demand.

Currently, the LPOE is physically constrained on both the north and south, by Urtuzuastegui Street and the Mexico-U.S. border, respectively. Traffic from the LPOE must be routed into downtown San Luis, which often creates traffic jams. All vehicular traffic coming into town has been rerouted recently to exit via First Street, while outgoing traffic enters the port via Main Street.

The possible phasing for the demolition and modernization of the LPOE includes:

• Phase 1: Acquire a portion of Friendship Park, a Public-Facing Building, Parking Garage, Vault, Impound, and Utility Yard.

• Phase 2: Construct new privately owned vehicle processing facilities and kennel.

• Phase 3: Construct new main building and outbound east exits.

• Phase 4: Demolish main building, construct pedestrian processing, and construct outbound west exits.

Alternatives Under Consideration: Two modernization alternatives for the proposed project are currently under consideration and will be analyzed in the EIS for the potential environmental impacts. In addition, the “No Action” alternative will be analyzed.

Alternative 1—GSA will demolish then reconstruct a modernized LPOE. The existing San Luis LPOE will be demolished and reconstructed in four (4) phases. Some adjacent land on the west side of the LPOE will be acquired which will allow modernization of the facility to accommodate modern operational requirements, and alleviate traffic strain in downtown San Luis.

Alternative 2—Renovate, expand, and modernize the existing LPOE. GSA will renovate and modernize the existing San Luis LPOE and expand the existing footprint of the facility on the west as mentioned in Alternative 1 which will accommodate modern operational requirements, and alleviate traffic strain in downtown San Luis.

Alternative 3—No Action Alternative. GSA will continue operations at the existing LPOE facilities as they are currently configured and will not perform any renovation nor modernization of the LPOE.

The EIS will address the potential environmental impacts of the proposed alternatives of the including aesthetics, air quality during construction and operation, geology and soils, hazards and hazardous materials, hydrology and water quality, land use, noise during construction and operation, utilities, and traffic. The EIS will also address the socioeconomic effects of the project.

Scoping Process: Scoping will be accomplished through a public scoping meeting, direct mail correspondence to appropriate federal, state, and local agencies, and to private organizations and citizens who have previously expressed, or are known to have, an interest in the project.

This meeting will be announced in the local newspaper, the Yuma Sun. Agencies and the public are encouraged to provide written comments regarding the scope of the EIS. Written comments must be received by Friday, December 22, 2017, and sent to the General Services Administration, Attention: Osmahn Kadri, Regional Environmental Quality Advisor/NEPA PM, 450 Golden Gate Avenue, 3rd Floor East, San Francisco, CA, 94102, or via email to osmahn.kadri@gsa.gov.

Dated: November 2, 2017.
Matthew Jear,
Director, Portfolio Management Division, Pacific Rim Region, Public Buildings Service.

[FR Doc. 2017-24551 Filed 11-9-17; 8:45 am]

BILLING CODE 6820-YF-P